DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by [Month] [Date], 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Study of Human Behavior and Attitudes Linked to Human-Deer Transmission of SARS-CoV-2.

OMB Control Number: 0579-NEW.

Summary of Collection: Under the Act of March 2, 1931 (7 U.S.C. 8351), the Secretary of Agriculture is authorized to conduct a program of wildlife services with respect to injurious animal species and take any action the Secretary considers necessary in conducting the program. Additionally, the Secretary of Agriculture is authorized to conduct activities to control nuisance mammals and birds (except for urban rodent control) and those mammals and bird species that are reservoirs for zoonotic disease. This authority has been delegated to the Animal and Plant Health Inspection Service (APHIS) Wildlife Services (WS). Two responsibilities of the Deputy Administrator of WS are to assist Federal, State, local, and foreign agencies and individuals regarding wildlife damage and control and conduct research to develop wildlife damage management methods (7 CFR 371.6).

Need and Use of the Information: APHIS has established a cooperative agreement with the University of Minnesota to conduct a survey among members of the public in five States (Illinois, Minnesota, New York, Pennsylvania, and Tennessee) that would measure values, beliefs, attitudes, and behaviors associated with humans' interactions with white-tailed deer (WTD).

Data collected, analyzed, and interpreted from the Study of Human Behavior and Attitudes Linked to Human-Deer Transmission of SARS-CoV-2 will be disseminated to a variety of constituents, including the APHIS WS and open access or subscription-based journals. Additionally, all data and metadata collected and used in peer-reviewed publications will be made publicly accessible in a data repository per the USDA Departmental Regulation 1020-006.

The University of Minnesota will use the data collected to:

• Quantify the relative risk of ecological and socio-ecological factors in spillover and persistence of SCV2 in WTD;

• Identify human behaviors that pose the highest risk of spillover-spillback and potential management points;

• Make recommendations for improving surveillance design for risk-based surveillance and rapid detection of disease emergence (new strains and SCV2 geographic hotspots and WTD population reservoirs);

• Develop a methodology for quantifying risk of SCV2 emergence across individual, population, and landscape scales, and for integrating data across these scales to provide a more comprehensive risk assessment and surveillance design application; and

• Make recommendations on intervention strategies that can be used by management agencies to reduce the risk of transmission among humans, WTD, and other animals.

Description of Respondents: Individuals or Households.

Number of Respondents: 60,000.

Frequency of Responses: Reporting: On occasion.

Total Burden Hours: 7,868.

Rachelle Ragland-Greene,
Departmental Information Collection Clearance Officer.

[FR Doc. 2025-18588 Filed 9-24-25; 8:45 am]

BILLING CODE 3410-34-P